DEPARTMENT OF COMMERCE

Submission for OMB Review; Comment Request

DOC has submitted to the Office of Management and Budget (OMB) for clearance the following proposal for collection of information under the provisions of the Paperwork Reduction Act (44 U.S.C. chapter 35).

Agency: Emergency Oil and Gas Guarantee Loan Board.

Title: Emergency Oil and Gas Guarantee Loan Program—Guarantee Agreement.

Form Number(s): ELB-1.

Agency Approval Number: 3003-0001.

Type of Request: Extension of a currently approved collection.

Burden: 1,475.

Number of Respondents: 23.

Avg Hours Per Response: 80.

Needs and Uses: The Emergency Oil and Gas Guarantee Loan Board developed a guarantee agreement that must be signed by qualified oil and gas companies that receive loan guarantees. The information being collected will be used and is necessary to ensure that the applicant is meeting the conditions of the guarantee agreement and to protect the Federal government from default and/or fraud. The information is also required as supporting documentation for annual or other audits that may be conducted by or on behalf of the Board or by the General Accounting Office for as long as the guarantee agreement is in effect.

Affected Public: Business or other for profit.

Frequency: On occasion.

Respondent's Obligation: Required to obtain or retain benefits

OMB Desk Officer: Dave Rostker, (202) 395-7340.

Copies of the above information collection proposal can be obtained by calling or writing Madeleine Clayton, DOC Forms Clearance Officer, (202) 482-3129, Department of Commerce, room 6086, 14th and Constitution Avenue, NW, Washington, DC 20230 (or via the Internet at MClaytonl@doc.gov).

Written comments and recommendations for the proposed information collection should be sent within 30 days of publication of this notice to Dave Rostker, OMB Desk Officer, room 10201, New Executive Office Building, Washington, DC 20503.

Dated: August 29, 2000.
Madeleine Clayton,
Departmental Forms Clearance Officer, Office of the Chief Information Officer.

[FR Doc. 00-22594 Filed 9-1-00; 8:45 am]

BILLING CODE 3510-07-P